DEPARTMENT OF TRANSPORTATION

Surface Transportation Board

[STB Finance Docket No. 33831]

Wisconsin Chicago Link Ltd.—Lease Exemption—Pennsylvania Lines LLC

Wisconsin Chicago Link Ltd. (WCLL), a Class III rail carrier, has filed a notice of exemption under 49 CFR 1150.41 to lease from Pennsylvania Lines LLC (PRR) approximately 1.9 miles of rail line (the Panhandle Line) of the former Pittsburgh Cincinnati, Chicago & St. Louis Railroad Company (PCC&StL) in Chicago, Cook County, IL.¹ The Panhandle Line extends between (1) A connection with CSX Transportation, Inc. (CSXT) via the Altenheim Subdivision of The Baltimore and Ohio Chicago Terminal Railroad Company at Ogden Junction near Rockwell Street (approximately PCC&StL milepost 309.8), and (2) A point (approximately PCC&StL milepost 307.9) 600 feet north of the north bank of the Chicago Sanitary and Ship Canal, near the Ash Street Interlock. WCLL will also obtain incidental, overhead trackage rights extending south from PCC&StL milepost 307.9, a distance of approximately 2 miles, to present or future connections with the rail lines of NS, Canadian National/Grand Trunk Western Railroad, Inc., Illinois Central Railroad Company, Chicago, Central & Pacific Railroad Company and The Burlington Northern and Santa Fe Railway Company.

¹ Applicants report that the lease of the rail line was the subject of an October 17, 1997 settlement agreement between Norfolk Southern Corporation and Norfolk Southern Railway Company (NS), which now control and operate PRR, and Wisconsin Central Transportation Corporation (WCTC) and its then-existing carrier affiliates. The Panhandle Line was formerly owned by Consolidated Rail Corporation. Pursuant to a transaction approved by the Board, and consummated by the parties on June 1, 1999, PRR was assigned assets designated to be operated as part of the NS rail system (the PRR-Allocated Assets). See CSX Corporation and CSX Transportation, Inc., Norfolk Southern Corporation and Norfolk Southern Railway Company—Control and Operating Leases/Agreements—Conrail Inc. and Consolidated Rail Corporation, STB Finance Docket No. 33388, Decision No. 89 (STB served July 23, 1998). Applicants further report that the lease provides for WCLL's acquisition of a leasehold interest in the Panhandle Line, a portion of the associated right-of-way, and certain incidental overhead trackage rights.

WCLL states that the Panhandle Line is currently out of service and that WCLL intends to reconstruct the line and add additional capacity. WCLL further states that, initially, operations on the line will be conducted by NS, CSXT, and Wisconsin Central Ltd. pursuant to trackage rights. WCLL indicates that it anticipates that CSXT will dispatch a portion of the Panhandle Line.

This transaction is related to STB Finance Docket No. 33811, Wisconsin Central Transportation Corporation—Continuance in Control Exemption—Wisconsin Chicago Link Ltd., wherein WCTC has filed a petition for exemption from the requirements of 49 U.S.C. 11323 to control WCLL. The stock of WCLL has been placed in an independent voting trust pursuant to 49 CFR 1013 pending a Board decision in STB Finance Docket No. 33811.

The transaction is scheduled to be consummated on or shortly after February 4, 2000.

If the notice contains false or misleading information, the exemption is void ab initio. Petitions to revoke the exemption under 49 U.S.C. 10502(d) may be filed at any time. The filing of a petition to revoke does not automatically stay the transaction.

An original and 10 copies of all pleadings, referring to STB Finance Docket No. 33831, must be filed with the Surface Transportation Board, Office of the Secretary, Case Control Unit, 1925 K Street, NW, Washington, DC 20423-0001. In addition, a copy of each pleading must be served on William C. Sippel, Esq., Oppenheimer Wolff & Donnelly (Illinois), 180 North Stetson Avenue, Two Prudential Plaza, 45th Floor, Chicago, IL 60601-6710.

Board decisions and notices are available on our website at “WWW.STB.DOT.GOV.”

Decided: February 3, 2000.
By the Board, David M. Konschnik, Director, Office of Proceedings.
Vernon A. Williams,
Secretary.

[FR Doc. 00-2970 Filed 2-9-00; 8:45 am]

BILLING CODE 4915-00-P